DEPARTMENT OF JUSTICE

Bureau of Alcohol, Tobacco, Firearms, and Explosives

[Docket No. 2019R-04]

Commerce in Explosives; 2019 Annual List of Explosive Materials

AGENCY: Bureau of Alcohol, Tobacco, Firearms, and Explosives (ATF); Department of Justice.

ACTION: Notice of List of Explosive Materials.

SUMMARY: This notice publishes the 2019 List of Explosive Materials, as required by law. The 2019 list is the same as the 2018 list published by ATF, except that the 2019 list adds four explosives not previously listed.

DATES: The list becomes effective January 2, 2020.

FOR FURTHER INFORMATION CONTACT: Krissy Carlson, Chief; Firearms and Explosives Industry Division; Bureau of Alcohol, Tobacco, Firearms, and Explosives; United States Department of Justice; 99 New York Avenue NE, Washington, DC 20226; (202) 648-7120.

SUPPLEMENTARY INFORMATION: Pursuant to 18 U.S.C. 841(d) and 27 CFR 555.23, the Department of Justice must publish and revise at least annually in the Federal Register a list of explosives determined to be within the coverage of 18 U.S.C. 841 et seq. The list covers not only explosives, but also blasting agents and detonators, all of which are defined as “explosive materials” in 18 U.S.C. 841(c).

Each material listed, as well as all mixtures containing any of these materials, constitute “explosive materials” under 18 U.S.C. 841(c). Materials constituting blasting agents are marked by an asterisk. Explosive materials are listed alphabetically, and, where applicable, followed by their common names, chemical names, and/or synonyms in brackets. This list supersedes the List of Explosive Materials dated December 12, 2018 (Docket No. 2018R-03, 83 FR 63906).

The 2019 List of Explosive Materials is a comprehensive list, but is not all-inclusive. The definition of “explosive materials” includes “[e]xplosives, blasting agents, water gels and detonators. Explosive materials, include, but are not limited to, all items in the `List of Explosive Materials' provided for in § 555.23.” 27 CFR 555.11. Accordingly, the fact that an explosive material is not on the annual list does not mean that it is not within coverage of the law if it otherwise meets the statutory definition of “explosives” in 18 U.S.C. 841. Subject to limited exceptions in 18 U.S.C. 845 and 27 CFR 555.141, only Federal explosives licensees and permitees may possess and use explosive materials, including those on the annual list.

Pursuant to its obligation to revise the list of explosives determined to be within the coverage of chapter 40 as set forth in 18 U.S.C. 841(d), the Department is adding four explosives to the 2019 List of Explosive Materials. The four explosives being added to the 2019 list, in alphabetical order, are: (1) “dipicryl sulfide” and its synonym “hexanitrodiphenyl sulfide”; (2) “nitrotriazolone” and its synonym “3-nitro-1,2,4-triazol-5-one”; (3) “trinitrobenzenesulfonic acid” and its synonym “picryl sulfonic acid”; and (4) “trinitrofluorenone.” None of these four explosives previously appeared on the list under other names.

The Explosives Research and Development Division (ERDD) at ATF's National Center for Explosives Training and Research (NCETR) performs research and analysis on materials that may be characterized as explosives materials. Upon a comprehensive review of literature on the relevant material and comprehensive research to determine if the material is synonymous or has structural correspondence with other listed explosives, including review of the Department of Transportation's Hazardous Materials Table, the National Oceanic and Atmospheric Administration's CAMEO database, and other explosives community accepted materials, ATF determined that each of these substances is an explosive under 18 U.S.C. 841(d). The addition of these four explosives to ATF's annual list codifies ATF's determination that these are explosive materials regulated under 27 CFR part 555.

Furthermore, the addition of these four explosives to the annual list of explosive materials creates interagency consistency with the classification of these materials as regulated materials by ATF, the Department of Homeland Security (DHS), and the Department of Transportation (DOT). All of these substances are listed on DHS's Chemical Facility Antiterrorism Standards (CFATS) Appendix A: Chemicals of Interest (COI) List, see 6 CFR part 27 Appendix A; and DOT's Hazardous Materials Table, see 49 CFR 172.101. Therefore, for purposes of clarity and consistency, ATF is adding these explosives to the annual list.

As stated, the annual list of explosive materials is a comprehensive list, but is not all-inclusive. Businesses or others subject to the federal explosives regulations at 27 CFR part 555 should not be impacted by the addition of these explosive materials to the annual list because all explosive materials, including those not on the annual list (with the exception of certain materials noted in exemptions at 18 U.S.C. 845 and the implementing regulations at 27 CFR 555.141), already are regulated under this part. These materials are subject to the restrictions and regulations in this part regarding the requirements for manufacture, storage, distribution, use, and licensing or permitting. Any person who receives explosive materials is already required to be licensed as an importer, manufacturer, or dealer in explosive materials, or to hold a permit as an explosives user. For persons who already hold a license or permit under the explosives laws, no further action on their part would be required for them to acquire newly-added explosive materials.

Notice of the 2019 Annual List of Explosive Materials

Pursuant to 18 U.S.C. 841(d) and 27 CFR 555.23, I hereby designate the following as “explosive materials” covered under 18 U.S.C. 841(c):

A

Acetylides of heavy metals.

Aluminum containing polymeric propellant.

Aluminum ophorite explosive.

Amatex.

Amatol.

Ammonal.

Ammonium nitrate explosive mixtures (cap sensitive).

* Ammonium nitrate explosive mixtures (non-cap sensitive).

Ammonium perchlorate having particle size less than 15 microns.

Ammonium perchlorate explosive mixtures (excluding ammonium perchlorate composite propellant (APCP)).

Ammonium picrate [picrate of ammonia, Explosive D].

Ammonium salt lattice with isomorphously substituted inorganic salts.

* ANFO [ammonium nitrate-fuel oil].

Aromatic nitro-compound explosive mixtures.

Azide explosives.

B

Baranol.

Baratol.

BEAF [1, 2-bis (2, 2-difluoro-2-nitroacetoxyethane)].

Black powder.

Black powder based explosive mixtures.

Black powder substitutes.

* Blasting agents, nitro-carbo-nitrates, including non-cap sensitive slurry and water gel explosives.

Blasting caps.

Blasting gelatin.

Blasting powder.

BTNEC [bis (trinitroethyl) carbonate].

BTNEN [bis (trinitroethyl) nitramine].

BTTN [1,2,4 butanetriol trinitrate].

Bulk salutes.

Butyl tetryl.

C

Calcium nitrate explosive mixture.

Cellulose hexanitrate explosive mixture.

Chlorate explosive mixtures.

Composition A and variations.

Composition B and variations.

Composition C and variations.

Copper acetylide.

Cyanuric triazide.

Cyclonite [RDX].

Cyclotetramethylenetetranitramine [HMX].

Cyclotol.

Cyclotrimethylenetrinitramine [RDX].

D

DATB [diaminotrinitrobenzene].

DDNP [diazodinitrophenol].

DEGDN [diethyleneglycol dinitrate].

Detonating cord.

Detonators.

Dimethylol dimethyl methane dinitrate composition.

Dinitroethyleneurea.

Dinitroglycerine [glycerol dinitrate].

Dinitrophenol.

Dinitrophenolates.

Dinitrophenyl hydrazine.

Dinitroresorcinol.

Dinitrotoluene-sodium nitrate explosive mixtures.

DIPAM [dipicramide; diaminohexanitrobiphenyl].

Dipicryl sulfide [hexanitrodiphenyl sulfide].

Dipicryl sulfone.

Dipicrylamine.

Display fireworks.

DNPA [2,2-dinitropropyl acrylate].

DNPD [dinitropentano nitrile].

Dynamite.

E

EDDN [ethylene diamine dinitrate].

EDNA [ethylenedinitramine].

Ednatol.

EDNP [ethyl 4,4-dinitropentanoate].

EGDN [ethylene glycol dinitrate].

Erythritol tetranitrate explosives.

Esters of nitro-substituted alcohols.

Ethyl-tetryl.

Explosive conitrates.

Explosive gelatins.

Explosive liquids.

Explosive mixtures containing oxygen-releasing inorganic salts and hydrocarbons.

Explosive mixtures containing oxygen-releasing inorganic salts and nitro bodies.

Explosive mixtures containing oxygen-releasing inorganic salts and water insoluble fuels.

Explosive mixtures containing oxygen-releasing inorganic salts and water soluble fuels.

Explosive mixtures containing sensitized nitromethane.

Explosive mixtures containing tetranitromethane (nitroform).

Explosive nitro compounds of aromatic hydrocarbons.

Explosive organic nitrate mixtures.

Explosive powders.

F

Flash powder.

Fulminate of mercury.

Fulminate of silver.

Fulminating gold.

Fulminating mercury.

Fulminating platinum.

Fulminating silver.

G

Gelatinized nitrocellulose.

Gem-dinitro aliphatic explosive mixtures.

Guanyl nitrosamino guanyl tetrazene.

Guanyl nitrosamino guanylidene hydrazine.

Guncotton.

H

Heavy metal azides.

Hexanite.

Hexanitrodiphenylamine.

Hexanitrostilbene.

Hexogen [RDX].

Hexogene or octogene and a nitrated N-methylaniline.

Hexolites.

HMTD [hexamethylenetriperoxidediamine].

HMX [cyclo-1,3,5,7-tetramethylene 2,4,6,8-tetranitramine; Octogen].

Hydrazinium nitrate/hydrazine/aluminum explosive system.

Hydrazoic acid.

I

Igniter cord.

Igniters.

Initiating tube systems.

K

KDNBF [potassium dinitrobenzo-furoxane].

L

Lead azide.

Lead mannite.

Lead mononitroresorcinate.

Lead picrate.

Lead salts, explosive.

Lead styphnate [styphnate of lead, lead trinitroresorcinate].

Liquid nitrated polyol and trimethylolethane.

Liquid oxygen explosives.

M

Magnesium ophorite explosives.

Mannitol hexanitrate.

MDNP [methyl 4,4-dinitropentanoate].

MEAN [monoethanolamine nitrate].

Mercuric fulminate.

Mercury oxalate.

Mercury tartrate.

Metriol trinitrate.

Minol-2 [40% TNT, 40% ammonium nitrate, 20% aluminum].

MMAN [monomethylamine nitrate]; methylamine nitrate.

Mononitrotoluene-nitroglycerin mixture.

Monopropellants.

N

NIBTN [nitroisobutametriol trinitrate].

Nitrate explosive mixtures.

Nitrate sensitized with gelled nitroparaffin.

Nitrated carbohydrate explosive.

Nitrated glucoside explosive.

Nitrated polyhydric alcohol explosives.

Nitric acid and a nitro aromatic compound explosive.

Nitric acid and carboxylic fuel explosive.

Nitric acid explosive mixtures.

Nitro aromatic explosive mixtures.

Nitro compounds of furane explosive mixtures.

Nitrocellulose explosive.

Nitroderivative of urea explosive mixture.

Nitrogelatin explosive.

Nitrogen trichloride.

Nitrogen tri-iodide.

Nitroglycerine [NG, RNG, nitro, glyceryl trinitrate, trinitroglycerine].

Nitroglycide.

Nitroglycol [ethylene glycol dinitrate, EGDN].

Nitroguanidine explosives.

Nitronium perchlorate propellant mixtures.

Nitroparaffins Explosive Grade and ammonium nitrate mixtures.

Nitrostarch.

Nitro-substituted carboxylic acids.

Nitrotriazolone [3-nitro-1,2,4-triazol-5-one].

Nitrourea.

O

Octogen [HMX].

Octol [75 percent HMX, 25 percent TNT].

Organic amine nitrates.

Organic nitramines.

P

PBX [plastic bonded explosives].

Pellet powder.

Penthrinite composition.

Pentolite.

Perchlorate explosive mixtures.

Peroxide based explosive mixtures.

PETN [nitropentaerythrite, pentaerythrite tetranitrate, pentaerythritol tetranitrate].

Picramic acid and its salts.

Picramide.

Picrate explosives.

Picrate of potassium explosive mixtures.

Picratol.

Picric acid (manufactured as an explosive).

Picryl chloride.

Picryl fluoride.

PLX [95% nitromethane, 5% ethylenediamine].

Polynitro aliphatic compounds.

Polyolpolynitrate-nitrocellulose explosive gels.

Potassium chlorate and lead sulfocyanate explosive.

Potassium nitrate explosive mixtures.

Potassium nitroaminotetrazole.

Pyrotechnic compositions.

Pyrotechnic fuses.

PYX [2,6-bis(picrylamino)] 3,5-dinitropyridine.

R

RDX [cyclonite, hexogen, T4, cyclo-1,3,5,-trimethylene-2,4,6,-trinitramine; hexahydro-1,3,5-trinitro-S-triazine].

S

Safety fuse.

Salts of organic amino sulfonic acid explosive mixture.

Salutes (bulk).

Silver acetylide.

Silver azide.

Silver fulminate.

Silver oxalate explosive mixtures.

Silver styphnate.

Silver tartrate explosive mixtures.

Silver tetrazene.

Slurried explosive mixtures of water, inorganic oxidizing salt, gelling agent, fuel, and sensitizer (cap sensitive).

Smokeless powder.

Sodatol.

Sodium amatol.

Sodium azide explosive mixture.

Sodium dinitro-ortho-cresolate.

Sodium nitrate explosive mixtures.

Sodium nitrate-potassium nitrate explosive mixture.

Sodium picramate.

Squibs.

Styphnic acid explosives.

T

Tacot [tetranitro-2,3,5,6-dibenzo-1,3a,4,6a tetrazapentalene].

TATB [triaminotrinitrobenzene].

TATP [triacetonetriperoxide].

TEGDN [triethylene glycol dinitrate].

Tetranitrocarbazole.

Tetrazene [tetracene, tetrazine, 1(5-tetrazolyl)-4-guanyl tetrazene hydrate].

Tetrazole explosives.

Tetryl [2,4,6 tetranitro-N-methylaniline].

Tetrytol.

Thickened inorganic oxidizer salt slurried explosive mixture.

TMETN [trimethylolethane trinitrate].

TNEF [trinitroethyl formal].

TNEOC [trinitroethylorthocarbonate].

TNEOF [trinitroethylorthoformate].

TNT [trinitrotoluene, trotyl, trilite, triton].

Torpex.

Tridite.

Trimethylol ethyl methane trinitrate composition.

Trimethylolthane trinitrate-nitrocellulose.

Trimonite.

Trinitroanisole.

Trinitrobenzene.

Trinitrobenzenesulfonic acid [picryl sulfonic acid].

Trinitrobenzoic acid.

Trinitrocresol.

Trinitrofluorenone.

Trinitro-meta-cresol.

Trinitronaphthalene.

Trinitrophenetol.

Trinitrophloroglucinol.

Trinitroresorcinol.

Tritonal.

U

Urea nitrate.

W

Water-bearing explosives having salts of oxidizing acids and nitrogen bases, sulfates, or sulfamates (cap sensitive).

Water-in-oil emulsion explosive compositions.

X

Xanthomonas hydrophilic colloid explosive mixture.

Date approved: December 27, 2019.
Marvin G. Richardson,
Associate Deputy Director.

[FR Doc. 2019-28316 Filed 12-31-19; 8:45 am]

BILLING CODE 4410-FY-P